DEPARTMENT OF COMMERCE

Census Bureau

Agency Information Collection Activities; Submission to the Office of Management and Budget (OMB) for Review and Approval; Comment Request; National Sample Survey of Registered Nurses

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 14, 2022 during a 60-day comment period. This notice allows for an additional 30 days for public comments.

Agency: U.S. Census Bureau, Department of Commerce.

Title: National Sample Survey of Registered Nurses.

OMB Control Number: 0607-1002.

Form Number(s): NSSRN (paper questionnaire).

Type of Request: Regular submission, reinstatement with changes request of a previously approved collection.

Number of Respondents: 37,500 Registered Nurses (RNs) and 25,000 Nurse practitioners (NPs) for a total of 62,500 respondents.

Average Hours per Response: 30 minutes for RNs and 33 minutes for NPs.

Burden Hours: 32,500.

Needs and Uses: Sponsored by the U.S. Department of Health and Human Services' (HHS) Health Resources and Services Administration's (HRSA) National Center for Health Workforce Analysis (NCHWA), the National Sample Survey of Registered Nurses (NSSRN) is designed to obtain the necessary data to determine the characteristics and distribution of Registered Nurses (RNs) throughout the United States, as well as emerging patterns in their employment characteristics. These data will provide the means for the evaluation and assessment of the evolving demographics, educational qualifications, and career employment patterns of RNs. Such data have become particularly important to better understand workforce issues given the recent dynamic changes in the RN population and, the transformation of the healthcare system.

The Census Bureau will request survey participation from up to 125,000 RNs using one of two modes. The first mode is a web instrument (Centurion) survey. All letters mailed to respondents will include a web link to complete the survey. The second mode is a mailout/mail back of a self-administered paper-and-pencil interviewing (PAPI) questionnaire. There will be one paper questionnaire mailing. All respondents will have access to a telephone questionnaire assistance line that they will be able to get login assistance, language support, and even complete the interview with a Census telephone interview agent.

The National Sample Survey of Registered Nurses is proposing one experiment for the 2022 cycle utilizing unconditional monetary incentives. For the 2022 cycle, NSSRN is proposing $5 with an initial web invitation letter for 90% of the sample receiving. The intention of the monetary incentive is to test the efficacy of reducing nonresponse bias by encouraging response, that is, whether offering $5 increases response, thus reducing non-response bias, and reducing costs associated with follow-up mailings. The unconditional monetary incentive will be randomly assigned to 90% of the sample prior to data collection. The remaining 10% of the sample will not receive an unconditional monetary incentive and will be the control group.

Affected Public: Nurses.

Frequency: The 2022 collection is the second administration of the NSSRN. Data collection is every four years.

Respondent's Obligation: Voluntary.

Legal Authority: Census Authority: Title 13, United States Code (U.S.C.), Section 8(b) (13 U.S.C. 8(b)).

HRSA Authority: Public Health Service Act, 42 U.S.C. Section 294n(b)(2)(A) and 42 U.S.C. Section 295k(a)-(b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1002.

Sheleen Dumas,
Department PRA Clearance Officer, Office of the Chief Information Officer, Commerce Department.

[FR Doc. 2022-17787 Filed 8-17-22; 8:45 am]

BILLING CODE 3510-07-P